DEPARTMENT OF DEFENSE

Office of the Secretary

Establishment of Department of War Federal Advisory Committee—Science, Technical, and Innovation BoardF

AGENCY: Department of Defense.

ACTION: Establishment of Federal advisory committee.

SUMMARY: The Department of War (DoW) is publishing this notice to announce that it is establishing the Science, Technology, and Innovation Board (STIB) as a discretionary Federal advisory committee.

FOR FURTHER INFORMATION CONTACT: Jim Freeman, Advisory Committee Management Officer for the Department of War, 703-692-5952.

SUPPLEMENTARY INFORMATION: In January 2026 and in accordance with authority described in Chapter 10 of Title 5 (United States Code (U.S.C.) 1008(a)(2), the Secretary of War (SecWar) approved the establishment of the STIB. The STIB will incorporate the mission/scope of the Defense Innovation Board (DIB) and the Defense Science Board (DSB) into a new discretionary advisory committee. Following establishment of the STIB, the DoW will terminate the DIB and DSB.

The STIB will operate in accordance with chapter 10 of title 5, U.S.C. (“commonly known as the Federal Advisory Committee Act” or “FACA”), and 41 Code of Federal Regulations (CFR) part 102-3, “Federal Advisory Committee Management,” [90 FR 58417; December 16, 2025], and DoW policies and procedures.

The public or interested organizations may submit written statements about the STIB mission and functions. Written statements may be submitted at any time or in response to the stated agenda of planned meetings of the STIB. All written statements shall be submitted to the STIB's Designated Federal Officer (DFO), and this individual will ensure that the written statements are provided to the membership for their consideration. Once established, the STIB's DFO will be Ms. Elizabeth Kowalski, who is the current DSB's DFO. Ms. Kowalski may be contacted at elizabeth.j.kowalski.civ@mail.mil.

Consistent with 41 CFR 102-3.65(a), the DoW is publishing the STIB's Public Interest Determination.

Pursuant to 41 U.S.C. 102-3.60(a), to establish, renew, reestablish, or merge a discretionary (agency discretion) advisory committee, an agency must first consult with the General Services Administration's Committee Management Secretariat (the Secretariat) and, as part of the consultation, provide a written public interest determination approved by the head of the agency to the Secretariat with a copy to the Office of Management and Budget. In addition, pursuant to 41 U.S.C. 102-3.35, an agency shall follow the same consultation process and document in writing the same determination of need before creating a subcommittee under a discretionary committee that is not made up entirely of members of a parent advisory committee.

Information on the following factors for the committee is provided to the Secretariat to demonstrate that merging the committee is in the public interest:

1. Annual Budget: Based upon experience with both the DIB and the DSB, which are being merged into the STIB, the DoW estimates that the total annual operating costs for a fully populated and operational STIB, to include travel, meetings, cost of Federal staff payments and contract support, will be $7,077,675.

a. Federal Personnel on a Full-Time Equivalent (FTE) Basis: The estimated annual personnel costs to the DoW are 3.0 FTE at $514,675, which includes basic pay with cost-of-living allowance.

b. Other Federal Internal Costs: Program element to support STIB contracts and travel costs is $6,563,000.

c. Proposed Payments to Members: Consistent with 10 U.S.C. 173, members of the STIB are not compensated for their services, except for travel and per diem reimbursement for official STIB-related business.

d. Proposed Number of Members: As authorized by the SecWar, the STIB will be composed of not more than 40 members.

e. Reimbursable Costs: The estimated reimbursement costs for STIB staff and members is $768,250.00.

2. If applicable, the total dollar value of grants expected to be recommended during the fiscal year. N/A.

3. Criteria for selecting members to ensure the committee has the necessary expertise and fairly balanced membership: As described in its proposed charter and membership balance plan, the STIB will be composed of members who are eminent authorities in the fields of science, technology, innovation, manufacturing, acquisition processes, and other matters of special interest to the DoW, germane to DoW scientific, technological, and innovation matters. Membership will consist of talented private and public sector leaders possessing a multiplicity of experience, background, and thought in support of the STIB's mission. In selecting members, the DoW seeks to capitalize on recognized talented, innovative private and public sector leaders to provide the broadest knowledge and expertise base in a balanced STIB membership composition. The STIB's membership balance is not static, and the SecWar may change the membership based upon work assigned to the STIB by the SecWar and Deputy Secretary of War (“the DoW Appointing Authority”) or the Under Secretary of War for Research and Engineering (USW(R&E)), as the STIB's DoW Sponsor.

4. List of all other DoW Federal Advisory Committees: A complete listing of DoW Federal advisory committees can be located at: https://www.facadatabase.gov/FACA/s/account/001t000000DCAooAAH/department-of-defense.

5. Justification that the information or advice provided by the Federal advisory committee or subcommittee is not available from another Federal advisory committee, another Federal Government source, or any other more cost-effective and less burdensome source: As described in the proposed STIB charter, the STIB provides independent advice and recommendations on matters pertaining to the DoW's scientific, technological, and innovation enterprises by focusing on matters concerning science, technology, and innovation as they pertain to the United States (U.S.) military's clear mission: to protect the American people and the homeland as the world's most lethal and effective fighting force. In addressing these matters, the proposed STIB will support the Administration's priorities of rebuilding the U.S. military, prioritizing the protection of the sovereignty and territorial integrity of the U.S., and reestablishing deterrence as envisioned by: Executive Order (E.O.) 14167, “Clarifying the Military's Role in Protecting the Territorial Integrity of the United States,” dated January 20, 2025; E.O. 14179, “Removing Barriers to American Leadership in Artificial Intelligence,” dated January 23, 2025; E.O. 14186, “The Iron Dome for America,” dated January 27, 2025; E.O. 14307, “Unleashing American Drone Dominance,” dated June 6, 2025; SecWar Address, Marine Corps Base Quantico, Virginia, September 30, 2025; and SecWar Memorandum, “The Warrior Ethos and Standards at the War Department,” dated October 6, 2025. As currently structured, the DIB focuses on injecting fresh perspectives from the private sector into DoW practices, emphasizing rapid innovation, software acquisition, leveraging emergent technologies, and ways the Department can align structures, processes, incentives, and human capital best practices to accelerate and scale innovation adoption to catalyze a Department-wide innovation and experimentation mindset. This provides the strategic and tactical advantage options needed to compete and overmatch in the technology- and innovation-driven environments that define modern competition and conflict; as well as enhance national security efforts, maximize lethality, and boost warfighting capabilities. Similarly, the DSB serves as a key advisory body tackling some of the most complex technical challenges in science and technology (S&T), innovation to provide advice and recommendations to inform the SecWar on achieving national strategic priorities through increased lethality. The DSB's work is driven by an emphasis on making America's warfighter successful in any mission on any battlefield. Its value is reflected in DoW stakeholder adoption of advice and recommendations resulting in the creation of significant new capabilities, policies, architectures, and investments. The DSB focuses on prioritizing the revival of our defense industrial base, leveraging low-cost and agile commercial opportunities, reforming acquisition processes, rapidly prototyping and fielding emerging technologies, as well as establishing S&T options to reenforce deterrence in the face of any opponent.

6. If the consultation is a committee renewal, a summary of the previous accomplishments of the committee and the reasons it needs to continue: N/A.

7. Explanation of why the committee/subcommittee is essential to the conduct of agency business: As described by the SecWar, the DoW's mission is “warfighting, preparing for war and preparing to win” the Nation's wars with “victory our only acceptable end state.” A strong, viable military is essential to the defense of the U.S. homeland and hemispheric security. The proposed STIB provides the SecWar and other senior DoW officials key advice and recommendations on strategies, capabilities, technologies, and innovations to win the Nation's wars, protect the sovereignty and territorial integrity of the homeland and our access to key terrain throughout the region, restore American military dominance in the Western Hemisphere, deny adversaries' ability to position forces or other threatening capabilities in our hemisphere, maintain a favorable balance of military power in the Indo-Pacific, support commitment to allies and international partners, and ensure the lethality and readiness of America's fighting force to further the goal of peace through strength. The increasing threat of attack by ballistic, hypersonic, and cruise missiles, and other advanced aerial attacks, remains the most catastrophic threat facing the U.S. As described in this memorandum, the proposed STIB's independent advice or recommendations to the SecWar and other senior DoW officials cannot be duplicated, whether inside the DoW or the Executive Branch. Its advice is tailored toward broad aspects of the Department's S&T enterprise to ensure we have the strongest, most powerful, most lethal, and most prepared military on the planet. It will provide a force multiplier for DoW innovation that bolsters national security. This office is unaware of any U.S. government or non-government entity that could provide the same level of national security S&T enterprise expertise necessary “to ensure the American military remains the most lethal and dominant on the planet, not merely for a few years, but for decades and generations to come.”

This public interest determination documents that merging the committee is essential to the conduct of agency business and that the information to be obtained is not already available through another advisory committee or source within the Federal Government.

Dated: February 13, 2026.
Aaron T. Siegel,
Alternate OSD Federal Register Liaison Officer, Department of Defense.

[FR Doc. 2026-03215 Filed 2-18-26; 8:45 am]

BILLING CODE 6001-FR-P